DEPARTMENT OF JUSTICE

Notice of Lodging of Consent Decree Pursuant to Comprehensive Environmental Response, Compensation, and Liability Act

Notice is hereby given that on October 28, 2002, two proposed consent decrees in United States v. Ponderosa Fibres of America, Inc., et al., Civil Action No. 99-CV-1305 (FJS/RWS), were lodged with the United States District Court for the Northern District of New York.

The United States' Amended Complaint in this action alleges that Ponderosa Fibres of America, Inc. (“PFC”), Martin Bernstein and Jerome Goodman are jointly and severally liable for past and future response costs, currently totaling over $1.3 million, incurred by the United States in connection with the U.S. Environmental Protection Agency's removal of hazardous substances from the St. Lawrence Pulp and Paper Superfund Site in Ogdensburg, St. Lawrence County, New York (“Site”), pursuant to section 107(a) of the Comprehensive Environmental Response, Compensation, and Liability Act (“CERCLA”), 42 U.S.C. 9607(a). The Complaint also alleges that certain transfers of funds from PFA to six current and former PFA officers and shareholders, Martin Bernstein, Jeffrey Feil, the Estate of Louis Feil, Nathan Bernstein, Robert L. Pitman and Roland O.A. Fjallstrom, violated the fraudulent transfer provisions of the Federal Debt Collection Procedures Act (“FDCPA”), 28 U.S.C. 3304, 3306, and the Federal Priority Statute (“FPS”), 31 U.S.C. 3713(b). After the United States initiated its recovery action against PFA, the company brought a third-party contribution action against six entities, including The Bank of New York (“BNY”) and Sonoco Products Company (“Sonoco”), pursuant to section 113(f) of CERCLA, 42 U.S.C. 9613(f). In April 2002, the Court entered a Consent Decree under which BNY paid $71,250 in partial reimbursement of the United States' response costs.

The first of the two proposed Consent Decrees lodged on October 28 resolves cost recovery and contribution claims against Third-Party Defendant Sonoco Products Company for $110,000. The second proposed Decree resolves FDCPA, FPS and potential cost recovery and contribution claims against Defendants Jeffrey Feil and Estate of Louis Feil for $75,000.

For a period of thirty (30) days from the date of this publication, the Department of Justice will accept comments relating to the proposed Sonoco and Feils Consent Decrees. Comments should be addressed to the Assistant Attorney General of the Environment and Natural Resources Division, U.S. Department of Justice, c/o David L. Weigert, Esq., Environmental Enforcement Section, P.O. Box 7611, Ben Franklin Station, Washington, DC 20044-7611, and should refer to United States v. Ponderosa Fibres of America, Inc., et al., Civil Action No. 99-CV-1305 (FJS/RWS), DJ # 90-11-2-1223/1.

The proposed Consent Decrees may be examined at the Office of the United Statesss Attorney, Northern District of New York, 231 Foley U.S. Courthouse, 445 Broadway, Albany, New York and at U.S. Environmental Protection Agency Region II, 290 Broadway, New York, New York. Copies of the proposed Consent Decrees may also be obtained by mail from the Consent Decree Library, PO Box 7611, U.S. Department of Justice, Washington, DC 20044-7611, or by faxing a request to Tonia Fleetwood at (202) 514-0097, phone confirmation number (202) 514-1547. If requesting copies of one or both the proposed Consent Decrees, please specify the requested Decree(s) and enclose a check in the amount of $4.75 per Decree (25 cents per reproduced page), payable to the U.S. Treasury.

Ronald G. Gluck,
Assistant Section Chief, Environmental Enforcement Section, Environment and Natural Resources Division, Department of Justice.

[FR Doc. 02-28953 Filed 11-14-02; 8:45 am]

BILLING CODE 4410-15-M